FEDERAL COMMUNICATIONS COMMISSION

47 CFR Part 73

[DA 03-437; MB Docket No. 03-47, RM-10592]

Radio Broadcasting Services; Midlothian, Orange and South Hill, VA, and Reidsville, NC

AGENCY: Federal Communications Commission.

ACTION: Proposed rule.

SUMMARY: This document sets forth a proposal to amend the FM Table of Allotment of the Commission's rules. The Commission requests comment on a petition filed by Piedmont Communications, Inc. and Old Belt Broadcasting Corporation (together, “Joint Petitioners”) pursuant to section 1.420(i) of the Commission's rules. Joint Petitioners propose to change the community of allotment and the corresponding channel allotment for Channel 255A at Orange, Virginia, to Channel 255B1 at Midlothian, Virginia, and to modify the license of WJMA-FM accordingly. In order to facilitate those changes, Joint Petitioners further propose to substitute Channel 270A for Channel 255C3 at South Hill, Virginia, and to modify the WKSK-FM license to specify operation on Channel 270A. To accommodate this proposal, Joint Petitioners also request substitution of Channel 271C0 for Channel 271C at Reidsville, North Carolina. Channel 255B1 can be allotted to Midlothian in compliance with the Commission's minimum distance separation requirements with a site restriction of 12.7 km (7.9 miles) northwest of Midlothian. The coordinates for Channel 255B1 at Midlothian are 37-35-23 North Latitude and 77-44-49 West Longitude. Channel 270A can be allotted to South Hill in compliance with the Commission's minimum distance separation requirements with a site restriction of 12.4 km (7.7 miles) northwest of South Hill. The coordinates for Channel 270A at South Hill are 36-46-48 North Latitude and 78-15-04 West Longitude. Channel 271C0 can be allotted at Reidsville, North Carolina, at the current coordinates for Channel 271C. Because Midlothian is not listed in the United States Census 2000, Joint Petitioners must establish that Midlothian is a community for purposes of the Commission's FM allotment policies. The change of community from Orange to Midlothian would result in a net gain of 2,286.8 square kilometers and a net gain of 729,525 persons. In the loss area, adoption of the proposal would leave 2,470 persons in 135 square kilometers receiving two aural broadcast services, 10,720 persons in 77 square kilometers receiving three services, and 19,189 persons in 541 square kilometers receiving four services. In the gain area, the proposal would add a fifth reception service to 252 persons in 56 square kilometers. Substitution of Channel 270A for Channel 255C3 at South Hill would produce a net loss of 2,285.7 square kilometers and a net loss of 39,412 persons. The existing 70 dBu signal for WJMA-FM at Orange does not cover any Urbanized Area. Joint Petitioners state that Midlothian is not located in an Urbanized Area and that the proposed 70 dBu contour of WJMA-FM will cover less than 50 percent of the Richmond Urbanized Area. Under the circumstances described in the petition, no Tuck analysis will be necessary to evaluate this change of community proposal.

DATES: Comments must be filed on or before April 11, 2003, and reply comments on or before April 28, 2003.

ADDRESSES: Federal Communications Commission, Washington, DC 20554. In addition to filing comments with the FCC, interested parties should serve counsel for the petitioner as follows: Mark J. Prak, Brooks Pierce McLendon, Post Office Box 1800, Raleigh, NC 27602; Peter Gutmann, Womble, Carlyle, Sandridge & Rice, PLLC, 1401 Eye Street, NW., Washington, DC 20005; Mark N. Lipp, J. Thomas Nolan, Shook, Hardy & Bacon, 600 Fourteenth Street, NW., Suite 800, Washington, DC 20005; and Brian M. Madden, Leventhal Senter & Lerman, PLLC, 2000 K Street, NW., Suite 600, Washington, DC 20006.

FOR FURTHER INFORMATION CONTACT: Deborah A. Dupont, Media Bureau (202) 418-7072.

SUPPLEMENTARY INFORMATION: This is a synopsis of the Commission's Notice of Proposed Rule Making, MB Docket No. 03-47; adopted February 12, 2003 and released February 18, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202) 863-2893.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under North Carolina, is amended by removing Channel 271C and by adding Channel 271C0 at Reidsville.

3. Section 73.202(b), the Table of FM Allotments under Virginia, is amended by removing Orange, Channel 255A, and by adding Midlothian, Channel 255B1.

4. Section 73.202(b), the Table of FM Allotments under Virginia, is amended by removing Channel 255C3 and by adding Channel 270A at South Hill.

Federal Communications Commission.
John A. Karousos,
Assistant Chief, Audio Division, Media Bureau.

[FR Doc. 03-5333 Filed 3-7-03; 8:45 am]

BILLING CODE 6712-01-P